DEPARTMENT OF HEALTH AND HUMAN SERVICES

Food and Drug Administration

21 CFR Parts 106 and 107

[Docket No. FDA-1995-N-0063 (formerly 95N-0309)]

RIN 0910-AF27

Current Good Manufacturing Practices, Quality Control Procedures, Quality Factors, Notification Requirements, and Records and Reports, for Infant Formula; Correction

AGENCY: Food and Drug Administration, HHS.

ACTION: Interim final rule; request for comments; correction.

SUMMARY: The Food and Drug Administration (FDA) is correcting a document that appeared in the Federal Register of February 10, 2014. The document revised our infant formula regulations to establish requirements for current good manufacturing practices, including audits; to establish requirements for quality factors; and to amend FDA's quality control procedures, notification, and record and reporting requirements for infant formula. FDA took the action to improve the protection of infants who consume infant formula products. The document was published with an incorrect docket number. This document corrects that error.

DATES: Effective Date: This correction is effective February 19, 2014.

FOR FURTHER INFORMATION CONTACT: Joyce Strong, Office of Policy, Food and Drug Administration, 10903 New Hampshire Ave., Bldg. 32, rm. 3208, Silver Spring, MD 20993, 301-796-9148.

SUPPLEMENTARY INFORMATION: In FR Doc. 2014-02148, appearing on page 7934 in the Federal Register of February 10, 2014 (79 FR 7934), the following corrections are made:

1. On page 7934, “FDA-1995-N-0036” is corrected to read “FDA-1995-N-0063” each time it appears.

2. On page 8055, in the second column, “FDA-1995-N-0036” is corrected to read “FDA-1995-N-0063”.

3. On page 8058, in the third column, “FDA-1995-N-0036” is corrected to read “FDA-1995-N-0063”.

Dated: February 13, 2014.
Leslie Kux,
Assistant Commissioner for Policy.

[FR Doc. 2014-03588 Filed 2-18-14; 8:45 am]

BILLING CODE 4160-01-P